DEPARTMENT OF HOMELAND SECURITY

Coast Guard

33 CFR Part 165

[Docket No. USCG-2010-0476]

RIN 1625-AA00

Safety Zone; July Fireworks Display in Captain of the Port, Puget Sound AOR

AGENCY: Coast Guard, DHS.

ACTION: Temporary final rule; correction.

SUMMARY: The Coast Guard is correcting a temporary final rule that appeared in the Federal Register on June 15, 2010 (75 FR 33696). The temporary final rule established a temporary safety zone on the waters of Port Gardner Bay, Washington in support of the City of Everett Fourth of July fireworks display and this correction reflects the correct positioning of the display. The safety zone is necessary to protect the maritime public from dangers associated with the fireworks display and will do so by restricting vessels from congregating in close proximity to the fireworks discharge site during the display. Entry into, transit through or mooring within this safety zone is prohibited unless authorized by the Captain of the Port or Designated Representative.

DATES: This rule is effective from 5 p.m. on July 4, 2010 until 1 a.m. on July 5, 2010.

FOR FURTHER INFORMATION CONTACT: If you have questions on this temporary rule, call or e-mail LTJG Ashley M. Wanzer, Sector Seattle Waterways Management, Coast Guard; telephone 206-217-6175, e-mail SectorSeattleWWM@uscg.mil.

SUPPLEMENTARY INFORMATION: In FR doc 2010-14294 appearing on page 33696 in the issue of Tuesday, June 15, 2010, the following corrections are made:

PART 165—REGULATED NAVIGATION AREAS AND LIMITED ACCESS AREAS

§ 165.T13-147 [Corrected]

1. On page 33698, in the first column, in § 165.T13-147 Safety Zone; July Fireworks Display in Captain of the Port, Puget Sound AOR, correct paragraph (a) to read as follows:

“(a) Safety Zone. The following area is a designated safety zone: all waters of Port Gardner Bay, WA extending out to a 300 yard radius from the launch site at 47°58′51″ N., 122°13′16″ W.″ is corrected to read “Safety Zone. The following area is a designated safety zone: All waters of Port Gardner Bay, WA between two lines with the northern line connecting the following points 48°01′10.83″ N., 122°13′1.16″ W. and 48°01′5.05″ N., 122°12′50.84″ W. and the southern line connecting the following points 48°01′19.42″ N., 122°13′38.79″ W. and 48°0′18.77″ N., 122°13′19.00″ W.”

Dated: June 16, 2010.
S.W. Bornemann,
Captain, U.S. Coast Guard, Captain of the Port, Puget Sound.

[FR Doc. 2010-15843 Filed 6-29-10; 8:45 am]

BILLING CODE 9110-04-P